ENVIRONMENTAL PROTECTION AGENCY

[FRL-10007-84-OECA]

Memorandum Setting Forth Enforcement Discretion Regarding Self-Identification Requirement for Certain Manufacturers Subject to the TSCA Fees Rule; Notice of Availability

AGENCY: Environmental Protection Agency (EPA).

ACTION: Notice of availability.

SUMMARY: On March 24, 2020, the Assistant Administrator of the Office of Enforcement and Compliance Assurance signed a memorandum providing a “no action assurance” to three categories of manufacturers regarding the self-identification requirement of the Toxic Substances Control Act (TSCA) Fees Rule, consistent with planned revisions to the TSCA Fee Rule. The three categories of manufacturers are: (1) Importers of articles containing one of the twenty high-priority substances; (2) producers of one of the twenty high-priority substances as a byproduct; and (3) producers or importers of one of the twenty high-priority substances as an impurity. The Office of Enforcement and Compliance Assurance is hereby providing public notice of this memorandum which can be found at https://www.epa.gov/sites/production/files/2020-03/documents/no_action_assurance_regarding_self-identification_requirement_for_certain_manufacturers_subject_to_the_tsca_fees_rule_march_24_2020.pdf.pdf.

DATES: The memorandum is in effect from March 24, 2020 until either (1) 11:59 p.m. ET, September 30, 2021, or (2) the effective date of a final rule addressing the proposed exemptions to manufacture definition of the TSCA Fees Rule, whichever occurs earlier.

FOR FURTHER INFORMATION CONTACT: Philip Milton, Waste and Chemical Enforcement Division (2249-A), Environmental Protection Agency, 1200 Pennsylvania Avenue NW, Washington, DC 20460; telephone: (202) 564-5029; fax: (202) 564-0010; email: milton.philip@epa.gov.

SUPPLEMENTARY INFORMATION: More information can be found at https://www.epa.gov/tsca-fees/information-plan-reduce-tsca-fees-burden-and-no-action-assurance.

Dated: April 7, 2020.
Gregory Sullivan,
Director, Waste and Chemical Enforcement Division, Office of Enforcement and Compliance Assurance.

[FR Doc. 2020-07625 Filed 4-9-20; 8:45 am]

BILLING CODE 6560-50-P